DEPARTMENT OF TRANSPORTATION

Federal Aviation Administration

14 CFR Part 39

[Docket No. 2000-CE-27-AD]

RIN 2120-AA64

Airworthiness Directives; Raytheon Aircraft Company Models 99, 99A, 99A (FACH), A99A, B99, and C99 Airplanes

AGENCY: Federal Aviation Administration, DOT.

ACTION: Notice of proposed rulemaking (NPRM).

SUMMARY: This document proposes to adopt a new airworthiness directive (AD) that would apply to certain Raytheon Aircraft Company (Raytheon) Models 99, 99A, 99A (FACH), A99A, B99, and C99 airplanes. The proposed AD would require you to inspect all main landing gear (MLG) hydraulic actuators to determine the end cap part number that is installed, and replace any actuator that has a part number 4A125C32 end cap. The proposed AD is the result of the potential for fatigue cracks to develop on the MLG hydraulic actuator end caps. The actions specified by this proposed AD are intended to eliminate existing and prevent future fatigue cracks in the MLG hydraulic actuator end caps. Such cracks could cause hydraulic fluid to leak and result in collapse of one or more gears with consequent aircraft damage and passenger injury.

DATES: The Federal Aviation Administration (FAA) must receive any comments on this rule on or before December 29, 2000.

ADDRESSES: Submit comments in triplicate to FAA, Central Region, Office of the Regional Counsel, Attention: Rules Docket No. 2000-CE-27-AD, 901 Locust, Room 506, Kansas City, Missouri 64106. Comments may be inspected at this location between 8 a.m. and 4 p.m., Monday through Friday, holidays excepted.

Service information that applies to the proposed AD may be obtained from the Raytheon Aircraft Company, PO Box 85, Wichita, Kansas 67201-0085; telephone: (800) 625-7043 or (316) 676-4556. This information also may be examined at the Rules Docket at the address above.

FOR FURTHER INFORMATION CONTACT: Paul C. DeVore, Aerospace Engineer, Wichita Aircraft Certification Office, FAA, 1801 Airport Road, Mid-Continent Airport, Wichita, Kansas 67209; telephone: (316) 946-4142; facsimile: (316) 946-4407.

SUPPLEMENTARY INFORMATION:

Comments Invited

How do I comment on the proposed AD? The FAA invites comments on this proposed rule. You may submit whatever written data, views, or arguments you choose. You need to include the rule's docket number and submit your comments in triplicate to the address specified under the caption ADDRESSES. The FAA will consider all comments received on or before the closing date. We may amend the proposed rule in light of comments received. Factual information that supports your ideas and suggestions is extremely helpful in evaluating the effectiveness of the proposed AD action and determining whether we need to take additional rulemaking action.

Are there any specific portions of the proposed AD I should pay attention to? The FAA specifically invites comments on the overall regulatory, economic, environmental, and energy aspects of the proposed rule that might suggest a need to modify the rule. You may examine all comments we receive before and after the closing date of the rule in the Rules Docket. We will file a report in the Rules Docket that summarizes each FAA contact with the public that concerns the substantive parts of the proposed AD.

We are re-examining the writing style we currently use in regulatory documents, in response to the Presidential memorandum of June 1, 1998. That memorandum requires federal agencies to communicate more clearly with the public. We are interested in your comments on whether the style of this document is clearer, and any other suggestions you might have to improve the clarity of FAA communications that affect you. You can get more information about the Presidential memorandum and the plain language initiative at http://www.plainlanguage.gov.

How can I be sure FAA receives my comment? If you want us to acknowledge the receipt of your comments, you must include a self-addressed, stamped postcard. On the postcard, write “Comments to Docket No. 2000-CE-27-AD.” We will date stamp and mail the postcard back to you.

Discussion

What events have caused this AD? The FAA has received a report of an incident on a Raytheon Model C99 airplane where a cracked main landing gear (MLG) hydraulic actuator end cap resulted in nose landing gear (NLG) collapse during landing. The cracked end cap caused the hydraulic fluid to leak, which then prevented the landing gear from locking down. We have received several other reports of cracks in the MLG hydraulic actuator end caps on certain Raytheon 99 series airplanes of a similar type design.

The suspect MLG hydraulic actuator end caps are part number (P/N) 4A125C32 end caps. These end caps were originally installed on P/N 99-388001 series actuators. We have reports that these parts may also have been installed on the overhauled P/N 99-388008 series, although they are not approved for this configuration.

The P/N 99-388001 and 99-388008 series actuators are installed on Raytheon Models 99, 99A, 99A (FACH), A99A, B99, and C99 airplanes.

What are the consequences if the condition is not corrected? Cracked MLG hydraulic actuator end caps, if not eliminated and prevented from occurring in the future, could cause hydraulic fluid to leak and result in collapse of one or more gears with consequent aircraft damage and passenger injury.

Relevant Service Information

Is there service information that applies to this subject? Raytheon has issued Mandatory Service Bulletin SB 2290, Rev. 1, Revised: August, 1999.

What are the provisions of this service bulletin? The service bulletin includes procedures for:

• Inspecting all MLG hydraulic actuators to determine the end cap P/N that is installed; and

• Replacing any MLG hydraulic actuator that has a P/N 4A125C32 end cap.

The FAA's Determination and an Explanation of the Provisions of the Proposed AD

What has FAA decided? After examining the circumstances and reviewing all available information related to the incidents described above, including the above-referenced service information, we have determined that:

• The unsafe condition referenced in this document exists or could develop on other Raytheon Models 99, 99A, 99A (FACH), A99A, B99, and C99 airplanes of the same type design;

• The actions specified in the previously-referenced service information should be accomplished on the affected airplanes; and

• AD action should be taken in order to correct this unsafe condition.

What would the proposed AD require? This proposed AD would require you to inspect all MLG hydraulic actuators to determine the end cap part number that is installed with replacement of any actuator that has a part number 4A125C32 end cap.

Cost Impact

How many airplanes would the proposed AD impact? We estimate that the proposed AD would affect 139 airplanes in the U.S. registry.

What would be the cost impact of the proposed AD on owners/operators of the affected airplanes? We estimate the following costs to accomplish the proposed inspection:

Labor cost | Parts cost | Total cost per airplane | Total cost on U.S. airplane operators
2 workhours × $60 per hour = $120 | No parts necessary to accomplish the inspection | $120 per airplane | $16,680

We estimate the following costs to accomplish any necessary replacements that would be required based on the results of the proposed inspection. We have no way of determining the number of airplanes that may need such replacement:

Labor cost | Parts cost | Total cost per airplane
4 workhours × $60 per hour = $240 | $1,400 for each actuator; each airplane requires 2 for a total cost of $2,800 per airplane | $3,040 per airplane.

Regulatory Impact

Would this proposed AD impact various entities? The regulations proposed herein would not have a substantial direct effect on the States, on the relationship between the national government and the States, or on the distribution of power and responsibilities among the various levels of government. Therefore, it is determined that this proposed rule would not have federalism implications under Executive Order 13132.

Would this proposed AD involve a significant rule or regulatory action? For the reasons discussed above, I certify that this action (1) is not a “significant regulatory action” under Executive Order 12866; (2) is not a “significant rule” under DOT Regulatory Policies and Procedures (44 FR 11034, February 26, 1979); and (3) if promulgated, will not have a significant economic impact, positive or negative, on a substantial number of small entities under the criteria of the Regulatory Flexibility Act. A copy of the draft regulatory evaluation prepared for this action has been placed in the Rules Docket. A copy of it may be obtained by contacting the Rules Docket at the location provided under the caption ADDRESSES.

List of Subjects in 14 CFR Part 39

Air transportation, Aircraft, Aviation safety, Safety.

The Proposed Amendment

Accordingly, under the authority delegated to me by the Administrator, the Federal Aviation Administration proposes to amend 14 CFR part 39 of the Federal Aviation Regulations as follows:

PART 39—AIRWORTHINESS DIRECTIVES

1. The authority citation for part 39 continues to read as follows:

Authority: 49 U.S.C. 106(g), 40113, 44701.

§ 39.13 [Amended]

2. FAA amends § 39.13 by adding a new airworthiness directive (AD) to read as follows:

Raytheon Aircraft Company: Docket No. 2000-CE-27-AD

(a) What airplanes are affected by this AD? This AD affects the following airplane models and serial numbers that are certificated in any category:

Models | Serial numbers
99, 99A, 99A (FACH), A99A, and B99 C99 | U-1 through U-49 and U51 through U-164. U-50 and U-165 through U-239.

(b) Who must comply with this AD? Anyone who wishes to operate any of the above airplanes must comply with this AD.

(c) What problem does this AD address? The actions specified by this AD are intended to eliminate existing and prevent future fatigue cracks in the main landing gear (MLG) hydraulic actuator end caps. Such cracks could cause hydraulic fluid to leak and result in collapse of one or more gears with consequent aircraft damage and passenger injury.

(d) What actions must I accomplish to address this problem? To address this problem, you must accomplish the following:

Action | Compliance time | Procedures
(1) Inspect all MLG hydraulic actuators to determine what part number (P/N) end caps are installed | Within the next 200 hours time-in-service (TIS) after the effective date of this AD, unless already accomplished | In accordance with the Accomplishment Instructions section of Raytheon Mandatory Service Bulletin SB 2290, Rev. 1, Revised: August, 1999.
(2) If a P/N 4A211S1 (or FAA-approved equivalent part number) end cap is installed on both actuators, then no additional action is required by this AD | AD is complied with | AD is complied with.
(3) If a P/N 4A125C32 (or FAA-approved equivalent part number) end cap is installed on a P/N 99-388001 series actuator, accomplish the following (i) Inspect, using fluorescent penetrant methods, each end cap for evidence of cracking; (ii) Replace each actuator with an actuator that has a P/N 4A211SI (or FAA-approved equivalent part number) end cap; and (iii) This replacement may be accomplished prior to 600 hours TIS, but must be replaced if evidence of cracking is found. | Accomplish the inspection prior to further flight after the inspection required by paragraph (d)(1) of this AD and thereafter at intervals not to exceed 200 hours TIS until the end caps are replaced. Accomplish the replacement prior to further flight after the inspection where any evidence of cracking is found or within 600 hours TIS after the effective date of this AD if no evidence of cracking is found | In accordance with Part I, steps (2) through (10) and Part II, of the Accomplishment Instructions section of Raytheon Mandatory Service Bulletin SB 2290, Rev. 1, Revised: August, 1999.
(4) If a P/N 4A125C32 (or FAA-approved equivalent part number) end cap is installed on a P/N 99-388008 series actuator, replace the actuator with an actuator that has a P/N 4A211SI (or FAA-approved equivalent part number) end cap | Prior to further flight after the inspection required by this AD | In accordance with Part I, steps (2) through (10) and Part II, of the Accomplishment Instructions section of Raytheon Mandatory Service Bulletin SB 2290, Rev. 1, Revised: August, 1999.
(5) Do not install, on any affected airplane, a P/N 99-388008 series actuator that incorporates an end cap that is not P/N 4A211S1 (or FAA-approved equivalent part number) | As of the effective date of this AD | Not Applicable.
(6) Do not install, on any affected airplane, a P/N 99-388001 series actuator that incorporates an end cap that is not P/N 4A211SI (or FAA-approved equivalent part number) | As of 600 hours TIS after the effective date of this AD provided the 200-hour repetitive inspections required by this AD are accomplished and no evidence of cracking is found. If evidence of cracking is found, the actuator must be immediately replaced with one that incorporates P/N 4A211S1 (or FAA-approved equivalent part number) | Not Applicable.

(e) Can I comply with this AD in any other way? You may use an alternative method of compliance or adjust the compliance time if:

(1) Your alternative method of compliance provides an equivalent level of safety; and

(2) The Manager, Wichita Aircraft Certification Office (ACO), approves your alternative. Submit your request through an FAA Principal Maintenance Inspector, who may add comments and then send it to the Manager, Wichita ACO.

Note: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Paul C. DeVore, Aerospace Engineer, Wichita Aircraft Certification Office, FAA, 1801 Airport Road, Mid-Continent Airport, Wichita, Kansas 67209; telephone: (316) 946-4142; facsimile: (316) 946-4407.

(g) What if I need to fly the airplane to another location to comply with this AD? The FAA can issue a special flight permit under sections 21.197 and 21.199 of the Federal Aviation Regulations (14 CFR 21.197 and 21.199) to operate your airplane to a location where you can accomplish the requirements of this AD.

(h) How do I get copies of the documents referenced in this AD? You may obtain copies of the documents referenced in this AD from the Raytheon Aircraft Company, PO Box 85, Wichita, Kansas 67201-0085; telephone: (800) 625-7043 or (316) 676-4556. You may examine these documents at FAA, Central Region, Office of the Regional Counsel, 901 Locust, Room 506, Kansas City, Missouri 64106.

Issued in Kansas City, Missouri, on October 27, 2000.
James E. Jackson,
Acting Manager, Small Airplane Directorate, Aircraft Certification Service.

[FR Doc. 00-28093 Filed 11-1-00; 8:45 am]

BILLING CODE 4910-13-P